DEPARTMENT OF COMMERCE

International Trade Administration

[A-583-008]

Certain Circular Welded Carbon Steel Pipes and Tubes From Taiwan: Preliminary Results of Antidumping Duty Administrative Review; 2011-2012

AGENCY: Import Administration, International Trade Administration, Department of Commerce.

SUMMARY: The Department of Commerce (the Department) is conducting an administrative review of the antidumping duty order on certain circular welded carbon steel pipes and tubes from Taiwan. The period of review (POR) is May 1, 2011, through April 30, 2012, and the review covers Shin Yang Steel Co., Ltd. (Shin Yang), a producer and exporter of subject merchandise. We have preliminarily found that sales of the subject merchandise were made at prices below normal value, and that Shin Yang is the successor-in-interest to Yieh Phui Enterprise Co, Ltd. (Yieh Phui).

DATES: As of June 7, 2013.

FOR FURTHER INFORMATION CONTACT: Steve Bezirganian or Robert James, AD/CVD Operations, Office 7, Import Administration, International Trade Administration, U.S. Department of Commerce, 14th Street and Constitution Avenue NW., Washington DC 20230; telephone: (202) 482-1131 or (202) 482-0649, respectively.

SUPPLEMENTARY INFORMATION:

Scope of the Order

The merchandise subject to the order is certain circular welded carbon steel pipes and tubes from Taiwan. The product is currently classified under the Harmonized Tariff Schedule of the United States (HTSUS) item numbers 7306.30.5025, 7306.30.5032, 7306.30.5040, and 7306.30.5055. Although the HTSUS numbers are provided for convenience and customs purposes, the written product description remains dispositive.¹

¹ The complete description of the scope of the order appears in the memorandum from Christian Marsh, Deputy Assistant Secretary for Antidumping and Countervailing Duty Operations, to Ronald K. Lorentzen, Acting Assistant Secretary for Import Administration, “Decision Memorandum for Preliminary Results of Antidumping Duty Administrative Review: Certain Circular Welded Carbon Steel Pipes and Tubes from Taiwan, 2011/12” (dated concurrently with this notice) (Preliminary Decision Memorandum), which is hereby adopted by this notice.

For a full description of the methodology underlying our conclusions, please see the Preliminary Decision Memorandum.² The Preliminary Decision Memorandum is a public document and is on file electronically via Import Administration's Antidumping and Countervailing Duty Centralized Electronic Service System (IA ACCESS). Access to IA ACCESS is available to registered users at http://iaaccess.trade.gov and to all parties in the Central Records Unit (CRU), room 7046 of the main Department of Commerce building. In addition, a complete version of the Preliminary Decision Memorandum can be accessed directly on the Internet at http://www.trade.gov.ia/. The signed Preliminary Decision Memorandum and the electronic versions of the Preliminary Decisions Memorandum are identical in content.

² A list of the topics discussed in the Preliminary Decision Memorandum appears in Appendix I of this notice.

Successor-in-Interest

In response to questionnaires issued in the current review, Shin Yang indicated that Yieh Phui (for which no administrative review was requested) had created Shin Yang as a wholly-owned subsidiary and had transferred its pipe production assets to that subsidiary prior to the POR. Shin Yang indicated that Yieh Phui made home market sales of the merchandise under review during the three month period prior to the POR, but made no U.S. or home market sales of the merchandise under review during the POR. Shin Yang also indicated Yieh Phui ceased production of the merchandise under review prior to the POR.

Based on the Department's analysis of the information submitted by Shin Yang, the Department preliminarily determines Shin Yang is the successor-in-interest to Yieh Phui. For more details, see the Preliminary Decision Memorandum.

Methodology

The Department has conducted this review in accordance with section 751(a)(2) of the Tariff Act of 1930, as amended (the Act). Export Price is calculated in accordance with section 772 of the Act. Normal value is calculated in accordance with section 773 of the Act. For a full description of the methodology underlying our conclusions, please see the Preliminary Decision Memorandum.

Preliminary Results of the Review

As a result of this review, we preliminarily determine that a weighted-average dumping margin of 8.90 percent exists for Shin Yang for the POR.

Disclosure and Public Comment

The Department intends to disclose to interested parties the calculations performed in connection with these preliminary results within five days of the date of publication of this notice.³ Pursuant to 19 CFR 351.309(c), interested parties may submit case briefs no later than 30 days after the date of publication of this notice. Rebuttal briefs, limited to issues raised in the case briefs, may be filed no later than five days after the date for filing case briefs.⁴ Parties who submit case briefs or rebuttal briefs in this proceeding are encouraged to submit with each argument: (1) A statement of the issue; (2) a brief summary of the argument; and (3) a table of authorities.⁵ Case and rebuttal briefs should be filed using IA ACCESS.⁶

³ See 19 CFR 351.224(b).

⁴ See 19 CFR 351.309(d).

⁵ See 19 CFR 351.309(c)(2) and (d)(2).

⁶ See 19 CFR 351.303.

Pursuant to 19 CFR 351.310(c), interested parties who wish to request a hearing, or to participate if one is requested, must submit a written request to the Assistant Secretary for Import Administration, filed electronically via IA ACCESS. An electronically filed document must be received successfully in its entirety by the Department's electronic records system IA ACCESS, by 5 p.m. Eastern Standard Time within 30 days after the date of publication of this notice.⁷ Requests should contain: (1) The party's name, address and telephone number; (2) the number of participants; and (3) a list of issues to be discussed. Issues raised in the hearing will be limited to those raised in the respective case briefs. The Department will issue the final results of this administrative review, including the results of its analysis of the issues raised in any written briefs, not later than 120 days after the date of publication of this notice, pursuant to section 751(a)(3)(A) of the Act.

⁷ See 19 CFR 351.310(c).

Assessment Rates

Upon completion of the administrative review, pursuant to 19 CFR 351.212(b), the Department will calculate an assessment rate on all appropriate entries. The Department intends to issue appropriate appraisement instructions for the company subject to this review directly to U.S. Customs and Border Protection (CBP) 15 days after the date of publication of the final results of this review.

If the weighted-average dumping margin for Shin Yang is not zero or de minimis (i.e., less than 0.5 percent) in the final results, then the Department will calculate importer-specific (or customer-specific) assessment rates. Because Shin Yang did not report the entered value of its sales, we will calculate importer-specific per-unit duty assessment rates by aggregating the total amount of dumping calculated for the examined sales of each importer (or customer) and dividing each of these amounts by the total quantity (i.e., weight) associated with those sales. To determine whether the importer-specific (or customer-specific) per-unit assessment rates are de minimis, in accordance with the requirement set forth in 19 CFR 351.106(c)(2), we will calculate importer-specific (or customer-specific) ad valorem rates based on estimated entered values. Pursuant to 19 CFR 351.106(c)(2), we will instruct CBP to liquidate without regard to antidumping duties all entries for which the importer-specific (or customer-specific) ad valorem rate is zero or de minimis.

The Department clarified its automatic assessment regulation on May 6, 2003.⁸ This clarification will apply to entries of subject merchandise during the POR produced by Shin Yang or Yieh Phui for which the record of this administrative review indicates they did not know was destined for the United States. In such instances, we will instruct CBP to liquidate these entries not covered by the importer-specific (or customer-specific) assessment rates at the all-others rate if there is no rate for the intermediate company(ies) involved in the transaction.

⁸ For a full discussion of this clarification, see Antidumping and Countervailing Duty Proceedings: Assessment of Antidumping Duties, 68 FR 23954 (May 6, 2003).

Cash Deposit Requirements

The following cash deposit requirements for estimated antidumping duties will be effective upon publication of the notice of final results of administrative review for all shipments of certain circular welded carbon steel pipes and tubes from Taiwan entered, or withdrawn from warehouse, for consumption on or after the date of publication as provided by section 751(a)(2) of the Act: (1) The cash deposit for Shin Yang will be equal to the weighted-average dumping margin established in the final results of this administrative review; (2) for merchandise exported by manufacturers or exporters not covered in this review but covered in a prior segment of the proceeding, the cash deposit rate will continue to be the company-specific rate published for the most recently completed segment of this proceeding in which that manufacturer or exporter participated; (3) if the exporter (now including Yieh Phui) is not a firm covered in this review, a prior review, or the original investigation but the manufacturer is, the cash deposit rate will be the rate established for the most recently completed segment of this proceeding in which that manufacturer or exporter participated; and (4) the cash deposit rate for all other manufacturers or exporters (now including Yieh Phui) will continue to be 9.70 percent, the all-others rate referenced in Certain Circular Welded Carbon Steel Pipes and Tubes From Taiwan: Antidumping Duty Order, 49 FR 19369 (May 7, 1984). These cash deposit requirements, when imposed, shall remain in effect until further notice.

Notifications

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a preliminary reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

We are issuing and publishing these results in accordance with sections 751(a)(1) and 777(i)(1) of the Act.

Dated: May 31, 2013.
Ronald K. Lorentzen,
Acting Assistant Secretary for Import Administration.

Appendix I

List of Topics Discussed in the Preliminary Decision Memorandum

Summary

Background

Scope of the Order

Successor-In-Interest

Fair Value Comparisons

Product Comparisons

Date of Sale

Export Price

Level of Trade

Normal Value

Differential Pricing

Currency Conversion

Conclusion

[FR Doc. 2013-13554 Filed 6-6-13; 8:45 am]

BILLING CODE 3510-DS-P